DEPARTMENT OF JUSTICE

National Institute of Corrections

Solicitation for a Cooperative Agreement: The Norval Morris Project Implementation Phase

AGENCY: National Institute of Corrections, U.S. Department of Justice.

ACTION: Solicitation for Cooperative Agreement.

SUMMARY: The National Institute of Corrections (NIC) is soliciting proposals from organizations, groups, or individuals to enter into a cooperative agreement for an 18-month period to begin in September 2010. Work under this agreement will continue NIC's Norval Morris Project by selecting two sites and testing implementation of the concepts and strategies that have been developed over the last four years. The Norval Morris Project is designed to develop models and execute strategies for expediting the application of research-based innovations by addressing specific topics of vital concern to the field of corrections.

The project funded under this cooperative agreement will continue and extend the work of the Norval Morris Project and other NIC projects by assisting in the planning and execution of an implementation effort with two selected agencies to address the dual issues of population management and workforce alignment.

DATES: Applications must be received by 4 p.m. (EDT) on Friday, July 30, 2010. Selection of the successful applicant and notification of review results to all applicants: September 30, 2010.

ADDRESSES: Mailed applications must be sent to Director, National Institute of Corrections, 320 First Street, NW., Room 5007, Washington, DC 20534. Applicants are encouraged to use Federal Express, UPS, or similar service to ensure delivery by the due date.

Hand delivered applications should be brought to 500 First Street, NW., Washington, DC 20534. At the front desk, call (202) 307-3106, extension 0 for pickup. Faxed or e-mailed applications will not be accepted. Electronic applications can be submitted only via http://www.grants.gov.

FOR FURTHER INFORMATION CONTACT: A copy of this announcement and the required application forms can be downloaded from the NIC Web site at http://www.nicic.gov/cooperativeagreements.

All technical or programmatic questions concerning this announcement should be directed to Pamela Davison. She can be reached by calling 1-800-995-6423 ext 0484 or by e-mail at pdavison@bop.gov.

SUPPLEMENTARY INFORMATION: Project Goals: The recipient of the award under this cooperative agreement will (1) participate in the implementation planning process by attending 5 meetings, including two meetings at NIC in Washington, DC, two meetings at NIC in Aurora, CO, and the Keystone Group in late September 2010 at a location in Maryland; (2) participate in refining the NIC draft implementation model that includes the full life cycle from preassessment through sustainability and evaluation and incorporates past work of the Norval Morris and other NIC sponsored projects on organizational culture and performance, implementing evidence based practices, and evidence-based decision making; (3) assist NIC in selecting two sites for the intervention test, including assessing readiness for change; (4) assist each site, in concert with NIC, in developing and executing a plan to address issues of population management and workforce alignment; (5) participate in NIC's evaluation of the project to measure the effectiveness of the implementation phase of the Norval Morris Project.

Background: The Norval Morris project is dedicated to the memory of Dr. Norval Morris, who was instrumental in founding NIC and remained a guiding influence as a charter member of the NIC Advisory Board until he passed away in 2004. It was established as an open-ended commitment by NIC to locate innovative, evidence-based approaches, evaluate their potential to inform correctional policy and practice, create opportunities to test these innovations in correctional settings, and develop and evaluate new strategies for the dissemination and application of this knowledge. The project has sought to continue the spirit of Morris' work and his belief that the corrections field could make more effective use of research in solving practical problems.

Through a number of prior cooperative agreements, NIC has been developing a model designed to provide correctional agencies with a step-by-step approach to promote systemic change in an agency by addressing concrete problems such as population management and workforce alignment. The Norval Morris Project was designed from its inception to bring together people both inside and outside the corrections field to develop interdisciplinary approaches and draw on professional networks that cut across academic, private sector, and public sector boundaries. Such an expansive vision required a steering group to “kick start” the search for innovations. Because this group's responsibility was essential for creating and maintaining the project's overarching vision, it was called the Keystone Group.

The first Keystone Group meeting took place in September 2008. It involved 19 thought leaders—half of them corrections practitioners—plus NIC senior staff and project staff. The retreat itself was designed to be emergent, without preset limits on the group's scope of work, design, or strategy. The group's function was to identify emerging topics and knowledge which could be imported into the corrections field, advise the project on how best to translate this knowledge to inform correctional practice, and assist the project in designing an implementation strategy.

During the Keystone Group's 2008 meeting, the following two provocative questions were developed: “How can we transform correctional leadership and the workforce in ways that empower staff to reduce recidivism and promote prevention?” and “How can we safely and systematically reduce the correctional population by half in eight years?” The next step of the process, which began immediately after the Keystone Group meeting, was to begin to assemble Topic Teams.

Structured similarly to the Keystone Group, Topic Teams functioned as standalone working groups and focused on the two topic areas the Keystone Group identified. An “invitation” to participate in the process was sent to a broad audience, seeking people interested in participating in a Topic Team. During most of 2009, working through conference calls and online meetings, the teams continued to develop, refine, and expand on the topics. In September 2009, the two topic teams met to finalize their work to pass back to the Keystone Group the material they had developed. In November 2009, a second meeting of the Keystone Group took place with 16 members attending. The group met to follow up on the Topic Team meetings held the previous month with the goal of providing direction on how the project should proceed on the twin issues of correctional population reduction and workforce alignment. Their mission was to discuss these areas and the action plans that were created by the Topic Teams. They concluded by determining the top strategies for Population Reduction and strategies for Workforce Transformation. Based on the discussions of the second meeting of the Keystone Group, NIC and project staff have continued the conversation with group members and others. A third meeting of the Keystone Group will take place in September 2010 to review the project's progress, refine its products, and advise NIC on the implementation phase.

Among the products being developed under an existing cooperative agreement are materials for use during the implementation phase to be funded through this solicitation. They will be designed to provide concrete and practical strategies to the field that, based on what we know, will have an impact. They will be designed to provide practical and specific strategies for planning, implementing, and sustaining changes and be presented in a structured format. The intent is to provide packages of materials with “off-the-shelf” modules that agencies can use to develop workable solutions. These products, together with others to be developed as part of the cooperative agreement funded through this solicitation, will be used to assist two agencies in planning, implementing, and sustaining strategies and policies to manage correctional populations and align the workforce with changing agency missions and needs. NIC will select the test sites with the assistance of the recipient and other project partners. The recipient will also participate in an evaluation to track the success of the overall project.

For more information on the Norval Morris Project, visit http://www.nicic.gov/Norval. For additional resources, go to: http://www.nicic.gov.

Required Expertise: Successful applicants should be able to demonstrate that they have the organizational capacity to carry out all the goals of the project, including experience in organizing and providing ongoing support for complex, multi-year projects, extensive experience in correctional policy and practice, and a record of success in working with correctional agencies on implementation, organizational development, or technical assistance projects. Preference will also be given to applicants with a record of working with interdisciplinary teams in a variety of fields beyond corrections.

Application Requirements: Applications should be concisely written, typed double spaced and reference the “NIC Opportunity Number” and Title provided in this announcement. Please limit the program narrative text to 25 double spaced pages, exclusive of resumes and summaries of experience (do not submit full curriculum vitae). The application package must include a cover letter that identifies the audit agency responsible for the applicant's financial accounts as well as the audit period or fiscal year that the applicant operates under (e.g., January 1 through December 31), a program narrative responding to the requirements in this announcement, a description of the qualifications of the applicant(s), an outline explaining projected costs, and the following forms: OMB Standard Form 424, Application for Federal Assistance; OMB Standard Form 424A, Budget Information—Non Construction Programs; OMB Standard Form 424B, Assurances—Non Construction Programs (these forms are available at http://www.grants.gov); and DOJ/NIC Certification Regarding Lobbying; Debarment, Suspension and Other Responsibility Matters; and Drug-Free Workplace Requirements (available at http://www.nicic.org/Downloads/PDF/certif-frm.pdf).

Applications may be submitted in hard copy, or electronically via http://www.grants.gov. If submitted in hard copy, there needs to be an unbound original and three copies of the full proposal (program and budget narratives, application forms and assurances). The original should have the applicant's signature in blue ink.

Authority: Public Law 93-415.

Funds Available: Up to $180,000 is available for this project, subject to available funding, but preference will be given to applicants who provide the most cost efficient solutions in accomplishing the scope of work. Determination will be made based on best value to the Government, not necessarily the lowest bid. Funds may only be used for the activities that are directly related to the project.

Eligibility of Applicants: An eligible applicant is any public or private agency, educational institution, organization, individual, or team with expertise in the described areas.

This project will be a collaborative venture with the NIC Research and Evaluation Division.

Review Considerations: Applications received under this announcement will be subject to the NIC Review Process. The criteria for the evaluation of each application will be as follows: 1. Programmatic (40%). Are all of the tasks adequately discussed? Is there a clear statement of how each of the tasks will be accomplished, including the staffing, resources, and strategies to be employed? Are there any innovative approaches, techniques, or design aspects proposed that will enhance the project? 2. Organizational (35%). Do the skills, knowledge, and expertise of the organization and the proposed project staff demonstrate a high level of competency to carry out the tasks? Does the applicant organization have the necessary experience and organizational capacity to carry out all five goals of the project? Are the proposed project management and staffing plans realistic and sufficient to complete the project within the 18-month timeframe? 3. Project Management/Administration (25%). Does the applicant identify reasonable objectives, milestones, and measures to track progress? If consultants and/or partnerships are proposed, is there a reasonable justification for their inclusion in the project and a clear structure to ensure effective coordination? Is the proposed budget realistic, does it provide sufficient cost detail/narrative, and does it represent good value relative to the anticipated results?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CCR can be done online at the CCR Web site: http://www.ccr.gov. A CCR Handbook and work sheet can also be reviewed at the Web site.

Number of Awards: One.

NIC Opportunity Number: 10PEI38. This number should appear as a reference line in the cover letter, where the opportunity number is requested on the Standard Form 424, and outside of the envelope in which the application is sent.

Catalog of Federal Domestic Assistance Number: 16.602.

Executive Order 12372: This program is not subject to the provisions of Executive Order 12372.

Morris L. Thigpen,
Director, National Institute of Corrections.

[FR Doc. 2010-16428 Filed 7-6-10; 8:45 am]

BILLING CODE 4410-36-P